DEPARTMENT OF THE INTERIOR

National Park Service

[NPS-NERO-GATE-26024; PPNEGATEB0, PPMVSCS1Z.Y00000]

Gateway National Recreation Area Fort Hancock 21st Century Advisory Committee Notice of Public Meeting

AGENCY: National Park Service, Interior.

ACTION: Meeting notice.

SUMMARY: In accordance with the Federal Advisory Committee Act of 1972, the National Park Service (NPS) is hereby giving notice that the Gateway National Recreation Area Fort Hancock 21st Century Advisory Committee will meet as indicated below.

DATES: The meeting will take place on Friday, September 7, 2018, at 9:00 a.m., with a public comment period at 11:00 a.m. (Eastern).

ADDRESSES: The meeting will be held in the meeting room at the Sandy Hook Chapel, 35 Hartshorne Drive, Sandy Hook, New Jersey 07332.

FOR FURTHER INFORMATION CONTACT: Daphne Yun, Acting Public Affairs Officer, Gateway National Recreation Area, 210 New York Avenue, Staten Island, New York 10305, or by telephone (718) 354-4602, or by email daphne_yun@nps.gov.

SUPPLEMENTARY INFORMATION: The Committee was established on April 18, 2012, by authority of the Secretary of the Interior (Secretary) under 54 U.S.C. 100906, and is regulated by the Federal Advisory Committee Act. The purpose of the Committee is to provide advice to the Secretary, through the Director of the National Park Service, on the development of a reuse plan and on matters relating to future uses of certain buildings at the Fort Hancock Historic District, located within the Sandy Hook Unit of Gateway National Recreation Area in New Jersey. All meetings are open to the public.

Purpose of the Meeting: The agenda will include an overview of both the leasing program and a park update.

The Committee website, https://www.forthancock21.org, includes summaries from all prior meetings. Interested persons may present, either orally or through written comments, information for the Committee to consider during the public meeting. Written comments will be accepted prior to, during, or after the meeting.

Due to time constraints during the meeting, the Committee is not able to read written public comments submitted into the record. Individuals or groups requesting to make oral comments at the public Committee meeting will be limited to no more than five minutes per speaker. All comments will be made part of the public record and will be electronically distributed to all Committee members.

Public Disclosure of Comments: Before including your address, phone number, email address, or other personal identifying information in your written comments, you should be aware that your entire comment including your personal identifying information will be publicly available. While you can ask us in your comment to withhold your personal identifying information from public review, we cannot guarantee that we will be able to do so.

Authority: 5 U.S.C. Appendix 2.

Alma Ripps,
Chief, Office of Policy.

[FR Doc. 2018-17389 Filed 8-13-18; 8:45 am]

BILLING CODE 4312-52-P